FEDERAL COMMUNICATIONS COMMISSION

47 CFR Parts 61 and 69

[WC Docket Nos. 21-17, 17-144; FCC 25-44; FR ID 309562]

Price Cap Business Data Services; Regulation of Business Data Services for Rate-of-Return Local Exchange Carriers

AGENCY: Federal Communications Commission.

ACTION: Final rule.

SUMMARY: In this document, the Commission temporarily waives §§ 61.50(j)(2) and 69.803(c) of the Commission's rules until the Commission directs the Wireline Competition Bureau to update the competitive market tests for incumbent local exchange carriers' business data services.

DATES: Effective August 8, 2025.

ADDRESSES: Federal Communications Commission, 45 L ST. NE, Washington, DC 20554.

FOR FURTHER INFORMATION CONTACT: Christopher Koves, Associate Division Chief, Pricing Policy Division, Wireline Competition Bureau, (202) 418-8209, Christopher.Koves@fcc.gov.

SUPPLEMENTARY INFORMATION: This is a summary of the Commission's Order, FCC 25-44, released August 8, 2025. A full-text copy may be obtained at the following internet address: https://docs.fcc.gov/public/attachments/FCC-25-44A1.pdf.

People with Disabilities. To request materials in accessible formats for people with disabilities (braille, large print, electronic files, audio format), send an email to fcc504@fcc.gov or call the Consumer & Governmental Affairs Bureau at 202-418-0530 (voice), 202-418-0432 (TTY).

Paperwork Reduction Act. This document does not contain new or substantively modified information collection requirements subject to the Paperwork Reduction Act of 1995 (PRA), Public Law 104-13. In addition, therefore, it does not contain any new or substantively modified information collection burden for small business concerns with fewer than 25 employees, pursuant to the Small Business Paperwork Relief Act of 2002, Public Law 107-198. This document may contain nonsubstantive changes to information collection requirements that were previously reviewed and approved by the Office of Management and Budget (OMB) pursuant to the PRA. Any such modifications to these information collections will be submitted to OMB pursuant to OMB's nonsubstantive modification process.

Synopsis

Introduction. On the Commission's own motion, in this Order we temporarily waive §§ 61.50(j)(2) and 69.803(c) of the Commission's rules until the Commission completes its review of the record developed in response to the Commission's Notice of Proposed Rulemaking and Third Further Notice of Proposed Rulemaking (Notice) released on August 8, 2025, FCC 25-44.

Competitive Market Tests. The competitive market tests are used to identify areas subject to potential or actual competition that warrant eliminating rate regulation and tariffing obligations for incumbent local exchange carriers' (carriers') business data services (BDS). The Commission's rules require the Wireline Competition Bureau (Bureau) to release the results of the triennial updates to the competitive market tests no later than three years following the effective date of the previous test. The results of the last competitive market test were released on January 31, 2023. In the Form 477 Sunset Order (87 FR 76949, Dec. 16, 2022), the Commission directed the Bureau and the Office of Economics and Analytics (OEA) to update the competitive market test results using Broadband Data Collection (BDC) data beginning with the 2026 update. Accordingly, absent waiver, the next competitive market test results must be released by January 31, 2026 and rely on BDC data.

Discussion. We find good cause to temporarily waive §§ 61.50(j)(2) and 69.803(c) of the Commission's rules. Considering that the next competitive market tests must be based on a new dataset that the Commission has not used before, and the fact that we are proposing a wide range of deregulatory actions in the Notice, including eliminating the competitive market tests, we find that special circumstances exist and the public interest would be best served by temporarily waiving the triennial updates to the competitive market tests to allow stakeholders to fully engage with the Notice and to allow the Commission time to consider the record that develops. Taking into account hardship, equity, and effective implementation of overall policy, our good cause finding is bolstered by the fact that relatively few price cap counties and rate-of-return study areas have been deemed competitive in the last two triennial reviews suggesting the 2026 update might prove a futile exercise, and there will be minimal impact from waiting for completion of this proceeding. On balance then, we find that the burdens of conducting the 2026 triennial update, as the Commission considers the continuing need for these updates, outweigh the benefits of doing so. Accordingly, we temporarily waive §§ 61.50(j)(2) and 69.803(c) of the Commission's rules until we direct the Bureau and the OEA to conduct the next triennial updates to the competitive market tests.

Procedural Matters. The Commission will not send a copy of this Order to Congress and the Government Accountability Office pursuant to the Congressional Review Act (CRA), see 5 U.S.C. 801(a)(1)(A), because it does not adopt any rule as defined in the CRA, 5 U.S.C. 804(3).

Ordering Clauses. Accordingly, it is ordered, pursuant to sections 1, 4(i)-(j), 10, 201(b), 202(a), 214, 303(r), 403, of the Communications Act of 1934, as amended, and section 706 of the Telecommunications Act of 1996, 47 U.S.C. 151, 152, 154(i)-(j), 160, 201(b), 202(a), 214, 303(r), 403, 1302, this order is adopted.

It is further ordered that, pursuant to sections 1, 4(i)-(j), 10, 201(b), 202(a), 214, and 303(r), of the Communications Act of 1934, as amended, and section 706 of the Telecommunications Act of 1996, 47 U.S.C. 151, 152, 154(i)-(j), 160, 201(b), 202(a), 214, 303(r), 1302, and § 1.3 of the Commission's rules, 47 CFR 1.3, that §§ 61.50(j)(2) and 69.803(c) of the Commission's rules, 47 CFR 61.50(j)(2) and 69.803(c), are waived to the extent described above in the Order, and that the order shall be effective upon release pursuant to § 1.102(b)(1) of the Commission's rules, 47 CFR 1.102(b)(1).

It is further ordered that, pursuant to Section 220(i) of the Communications Act of 1934, as amended, 47 U.S.C. 220(i), that notice be given to each state commission of the above rulemaking proceeding, and that the Wireline Competition Bureau shall serve a copy of this Order on each state commission.

Federal Communications Commission.
Katura Jackson,
Federal Register Liaison Officer.

[FR Doc. 2025-16980 Filed 9-3-25; 8:45 am]

BILLING CODE 6712-01-P